DEPARTMENT OF DEFENSE

Office of the Secretary

[Docket ID: DOD-2009-OS-0111]

Privacy Act of 1974; System of Records

AGENCY: Defense Logistics Agency, DoD.

ACTION: Notice to Amend a System of Records.

SUMMARY: The Defense Logistics Agency is proposing to amend a system of records notice in its existing inventory of record systems subject to the Privacy Act of 1974 (5 U.S.C. 552a), as amended.

DATES: The proposed action will be effective without further notice on September 8, 2009 unless comments are received which would result in a contrary determination.

ADDRESSES: Chief Privacy and FOIA Officer, Headquarters Defense Logistics Agency, ATTN: DGA, 8725 John J. Kingman Road, Suite 1644, Fort Belvoir, VA 22060-6221.

FOR FURTHER INFORMATION CONTACT: Mr. Lewis Oleinick at (703) 767-6194.

SUPPLEMENTARY INFORMATION: The Defense Logistics Agency's system of record notices subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of new or altered systems reports.

Dated: July 21, 2009.
Patricia L. Toppings,
OSD Federal Register Liaison Officer, Department of Defense.

S900.40

SYSTEM NAME:

Government Telephone Use Records (September 8, 2003, 68 FR 52909).

CHANGES:

SYSTEM IDENTIFIER:

Replace entry with “S284.89.”

* * * * *

SYSTEM LOCATION:

Delete entry and replace with “Records are located at Defense Logistics Agency, Enterprise Support Installations Management Headquarters, Defense Logistics Agency, 8725 John J. Kingman Road, Stop 6220, Fort Belvoir, VA 22060-6221, and at the telephone control offices within the DLA Primary Level Field Activities. Official mailing addresses are published as an appendix to DLA's compilation of systems of records notices.”

* * * * *

AUTHORITY FOR MAINTENANCE OF THE SYSTEM:

Delete entry and replace with “10 U.S.C. 133, Under Secretary of Defense for Acquisition, Technology, and Logistics; 44 U.S.C. 3501 et seq., Federal Information Policy; Committee on National Security Systems Directive No. 900, Governing Procedures of the Committee on National Security Systems promulgated pursuant to 47 U.S.C. 901 et seq., National Telecommunications; E.O. 12731, Principles of ethical conduct for Government officers and employees; 5 CFR part 2635, Standards of Ethical Conduct for Employees of the Executive Branch; and DOD Instruction 5335.1, Telecommunications Services In The National Capital Region (NCR).”

* * * * *

SYSTEM MANAGER(S) AND ADDRESS:

Delete entry and replace with “Staff Director, Defense Logistics Agency, Enterprise Support Installations Management Headquarters, Defense Logistics Agency, 8725 John J. Kingman Road, Stop 6220, Fort Belvoir, VA 22060-6221, and the Telecommunications Control Officers of the DLA Primary Level Field Activities. Official mailing addresses are published as an appendix to DLA's compilation of systems of records notices.”

NOTIFICATION PROCEDURE:

Delete entry and replace with “Individuals seeking to determine whether information about themselves is contained in this system should address written inquiries to the Privacy Act Office, Headquarters, Defense Logistics Agency, ATTN: DGA, 8725 John J. Kingman Road, Suite 1644, Fort Belvoir, VA 22060-6221. Individuals need to provide their full name and the DLA facility or activity where employed at the time the records were created or processed.”

RECORD ACCESS PROCEDURES:

Delete entry and replace with “Individuals seeking access to information about themselves contained in this system should address written inquiries to the Privacy Act Office, Headquarters, Defense Logistics Agency, ATTN: DGA, 8725 John J. Kingman Road, Suite 1644, Fort Belvoir, VA 22060-6221. Individuals need to provide their full name and the DLA facility or activity where employed at the time the records were created or processed.”

CONTESTING RECORD PROCEDURES:

Delete entry and replace with “The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.”

* * * * *

S284.89

SYSTEM NAME:

Government Telephone Use Records.

SYSTEM LOCATION:

Records are located at Defense Logistics Agency, Enterprise Support Installations Management, Headquarters, Defense Logistics Agency, 8725 John J. Kingman Road, Stop 6220, Fort Belvoir, VA 22060-6221, and at the telephone control offices of the DLA Primary Level Field Activities. Official mailing addresses are published as an appendix to DLA's compilation of systems of records notices.

CATEGORIES OF INDIVIDUALS COVERED BY THE SYSTEM:

DLA employees, military members, contractors, and individuals authorized to use government telephone systems, including cellular telephones, pagers, and telecommunications devices for the deaf or speech impaired and wireless air cards. The records also cover individuals who have been issued telephone calling cards.

CATEGORIES OF RECORDS IN THE SYSTEM:

The records include individual's name and physical location; duty telephone, cell, and pager numbers; billing account codes; government issued telephone calling card account number; equipment and calling card receipts and turn-in documents; and details of telephone use to include dates and times of telephone calls made or received, numbers called or called from, city and State, duration of calls, and assessed costs.

AUTHORITY FOR MAINTENANCE OF THE SYSTEM:

10 U.S.C. 133, Under Secretary of Defense for Acquisition, Technology, and Logistics; 44 U.S.C. 3501 et seq., Federal Information Policy; Committee on National Security Systems Directive No. 900, Governing Procedures of the Committee on National Security Systems promulgated pursuant to 47 U.S.C. 901 et seq., National Telecommunications; E.O. 12731, Principles of ethical conduct for Government officers and employees; 5 CFR part 2635, Standards of Ethical Conduct for Employees of the Executive Branch; and DOD Instruction 5335.1, Telecommunications Services In The National Capital Region (NCR).

PURPOSE(S):

Records are maintained to verify that telephones are used for official business or authorized purposes; to identify inappropriate calls and the persons responsible, and to collect the costs of those calls from those responsible. These records may be used as a basis for disciplinary action against offenders.

Records are also maintained to ensure proper certification and payment of bills; to safeguard telecommunications assets; for internal management control; for reporting purposes; and to forecast future telecommunications requirements and costs.

Statistical data, with all personal identifiers removed, may be used by management officials for purposes of conducting studies, evaluations, and assessments.

ROUTINE USES OF RECORDS MAINTAINED IN THE SYSTEM, INCLUDING CATEGORIES OF USERS AND THE PURPOSES OF SUCH USES:

In addition to those disclosures generally permitted under 5 U.S.C. 552a(b) of the Privacy Act of 1974 these records may specifically be disclosed outside the DOD as a routine use pursuant to 5 U.S.C. 552a(b)(3) as follows:

Information may be released to telecommunications service providers to permit servicing the account. The DoD “Blanket Routine Uses” also apply to this system of records.

POLICIES AND PRACTICES FOR STORING, RETRIEVING, ACCESSING, RETAINING AND DISPOSING OF RECORDS IN THE SYSTEM:

STORAGE:

Records may be stored on paper and on electronic storage media.

RETRIEVABILITY:

Records are retrieved by individual's name, billing account code, or telephone number.

SAFEGUARDS:

Access to the data is limited to those who require the records in the performance of their official duties. The electronic records employ user identification and password protocols. Physical entry is restricted by the use of locks, guards, and administrative procedures. Employees are periodically briefed on the consequences of improperly accessing restricted databases or records.

RETENTION AND DISPOSAL:

Records are destroyed when 3 years old. Initial telephone use reports may be destroyed earlier if the information needed to identify abuse has been captured in other records.

SYSTEM MANAGER(S) AND ADDRESS:

Staff Director, Defense Logistics Agency, Enterprise Support Installations Management Headquarters, Defense Logistics Agency, 8725 John J. Kingman Road, Stop 6220, Fort Belvoir, VA 22060-6221, and the Telecommunications Control Officers of DLA Primary Level Field Activities. Official mailing addresses are published as an appendix to DLA's compilation of systems of records notices.

NOTIFICATION PROCEDURE:

Individuals seeking to determine whether information about themselves is contained in this system should address written inquiries to the Privacy Act Office, Headquarters, Defense Logistics Agency, ATTN: DGA, 8725 John J. Kingman Road, Suite 1644, Fort Belvoir, VA 22060-6221.

Individuals need to provide their full name and the DLA facility or activity where employed at the time the records were created or processed.

RECORD ACCESS PROCEDURES:

Individuals seeking access to information about themselves contained in this system should address written inquiries to the Privacy Act Office, Headquarters, Defense Logistics Agency, ATTN: DGA, 8725 John J. Kingman Road, Suite 1644, Fort Belvoir, VA 22060-6221.

Individuals need to provide their full name and the DLA facility or activity where employed at the time the records were created or processed.

CONTESTING RECORD PROCEDURES:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

RECORD SOURCE CATEGORIES:

Data is supplied by the telephone user, telecommunications service providers, and DLA management.

EXEMPTIONS CLAIMED FOR THE SYSTEM:

None.

[FR Doc. E9-18906 Filed 8-6-09; 8:45 am]

BILLING CODE 5001-06-P